FEDERAL COMMUNICATIONS COMMISSION

[Report No. 2575]

Petitions for Reconsideration and Clarification of Action in Rulemaking Proceeding

September 13, 2002.

Petitions for Reconsideration and Clarification have been filed in the Commission's rulemaking proceeding listed in this Public Notice and published pursuant to 47 CFR 1.429(e). The full text of this document is available for viewing and copying in Room CY-A257, 445 12th Street, SW., Washington, DC or may be purchased from the Commission's copy contractor, Qualex International (202) 863-2893. Oppositions to these petitions must be filed by October 7, 2002. See Section 1.4(b)(1) of the Commission's rules (47 CFR 1.4(b)(1)). Replies to an opposition must be filed within 10 days after the time for filing oppositions has expired.

Subject: Establishing Rules and Policies for the Use of Spectrum for Mobile Satellite Service in the Upper and Lower L-Band (IB Docket No. 96-132).

Number of Petitions Filed: 3.

Marlene H. Dortch,
Secretary.

[FR Doc. 02-23934 Filed 9-19-02; 8:45 am]

BILLING CODE 6712-01-M